DEPARTMENT OF ENERGY

Federal Energy Regulatory Commission

[Docket No. ER02-106-000, et al.]

Midwest Independent Transmission System Operator, Inc., et al. Electric Rate and Corporate Regulation Filings

October 19, 2001.

Take notice that the following filings have been made with the Commission:

1. Midwest Independent Transmission System Operator, Inc.

[Docket No. ER02-106-000]

Take notice that on October 15, 2001, the Midwest Independent Transmission System Operator, Inc. (Midwest ISO) tendered for filing with the Federal Energy Regulatory Commission (Commission) a Summary of its Operating and Emergency Procedures, Midwest Independent Transmission System Operators, Inc., which was previously accepted for filing in Docket No. ER98-1438-000, and which has been reformatted to conform to the requirements of Order No. 614.

The Midwest ISO seeks an effective date of December 15, 2001. The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “FERC Filings” for other interested parties in this matter. The Midwest ISO will provide hard copies to any interested parties upon request.

Comment date: November 5, 2001, in accordance with Standard Paragraph E at the end of this notice.

2. San Diego Gas & Electric Company

[Docket No. ER01-3093-001]

Take notice that on October 2, 2001, San Diego Gas & Electric Company (SDG&E) tendered for filing with the Federal Energy Regulatory Commission (FERC or Commission), errata Page Nos. 7 and 8, which should be substituted for Page Nos. 7 and 8 to the unexecuted Service Agreement No. 9, the Expedited Interconnection Facilities Agreement (EIFA) by and between SDG&E and CalPeak Power-Enterprise, LLC tendered for filing on September 24, 2001. Additionally, SDG&E submits errata Page Nos. 3, 7, and 11 to Service Agreement No. 10, the Interconnection Agreement (IA) by and between CalPeak Power Enterprise, LLC and SDG&E.

Comment date: October 31, 2001, in accordance with Standard Paragraph E at the end of this notice.

3. Ameren Services Company

[Docket No. ER00-2366-001]

Take notice that on October 16, 2001, Central Illinois Public Service Company, dba AmerenCIPS (CIPS), tendered for filing with the Federal Energy Regulatory Commission (Commission) pursuant to the Commission's September 13, 2001 Order, hereby submits its refund report.

Comment date: November 6, 2001, in accordance with Standard Paragraph E at the end of this notice.

4. Hermiston Generating Company, L.P.

[Docket No. ER01-2159-002]

Take notice that on October 17, 2001, Hermiston Generating Company, L.P. (Hermiston) submitted for filing with the Federal Energy Regulatory Commission (Commission), in compliance with an order issued on October 9, 2001 by the Commission's Division of Tariffs and Rates—West, a revised Code of Conduct as part of its Rate Schedule FERC No. 3.

Comment date: November 7, 2001, in accordance with Standard Paragraph E at the end of this notice.

5. Calpine Construction Finance Company, L.P.

[Docket No. ER01-2784-001]

Take notice that on October 17, 2001, Calpine Construction Finance Company, L.P. (CCFC) filed with the Federal Energy Regulatory Commission (Commission) an amended Direct Power Transaction Confirmation under its market-based rate schedule.

Comment date: November 7, 2001, in accordance with Standard Paragraph E at the end of this notice.

6. South Point Energy Center, LLC

[Docket No. ER01-2887-001]

Take notice that on October 16, 2001, South Point Energy Center, LLC (the Applicant), submitted for filing with the Federal Energy Regulatory Commission (Commission), first Substitute Sheet Nos. 2 and 3 to its FERC Electric Tariff No. 1, in compliance with the Commission Staff Letter issued in this Docket on October 12, 2001.

Comment date: November 6, 2001, in accordance with Standard Paragraph E at the end of this notice.

7. Southwest Power Pool, Inc.

[Docket No. ER02-13-001]

Take notice that on October 9, 2001, Southwest Power Pool, Inc. (SPP) tendered for filing with the Federal Energy Regulatory Commission (Commission) an executed service agreement for Firm Point-to-Point Transmission Service with OG+E Energy Resources, Inc. (Transmission Customer) as a replacement for the service agreement filed October 1, 2001.

Comment date: October 30, 2001, in accordance with Standard Paragraph E at the end of this notice.

8. Attala Generating Company, LLC

[Docket No. ER02-90-000]

Take notice that on October 12, 2001, Attala Generating Company, LLC (Attala) rendered for filing with the Federal Energy Regulatory Commission (Commission) a service agreement (Service Agreement) with its affiliate, PG&E Energy Trading-Power, L.P. (PGET) pursuant to which Attala will sell capacity, energy and ancillary services to PGET at market-based rates according to its FERC Electric Tariff No. 1.

Comment date: November 2, 2001, in accordance with Standard Paragraph E at the end of this notice.

9. Midwest Independent Transmission System Operator, Inc.

[Docket No. ER02-107-000]

Take notice that on October 15, 2001, the Midwest Independent Transmission System Operator, Inc. (Midwest ISO) tendered for with the Federal Energy Regulatory Commission (Commission) a Supplement to its Alternative Dispute Resolution Plan, Midwest Independent Transmission System Operators, Inc., which was previously accepted for filing in Docket No. ER98-1438-000, and which has been reformatted to conform to the requirements of Order No. 614.

The Midwest ISO seeks an effective date of December 15, 2001. The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “FERC Filings” for other interested parties in this matter. The Midwest ISO will provide hard copies to any interested parties upon request.

Comment date: November 5, 2001, in accordance with Standard Paragraph E at the end of this notice.

10. Midwest Independent Transmission System Operator, Inc.

[Docket No. ER02-108-000]

Take notice that on October 15, 2001, the Midwest Independent Transmission System Operator, Inc. (Midwest ISO) tendered for filing with the Federal Energy Regulatory Commission (Commission) its Proposed Market Monitoring Plan, Midwest Independent Transmission System Operators, Inc., which was previously accepted for filing in Docket No. ER98-1438-000, and which has been reformatted to conform to the requirements of Order No. 614.

The Midwest ISO seeks an effective date of December 15, 2001. The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “FERC Filings” for other interested parties in this matter. The Midwest ISO will provide hard copies to any interested parties upon request.

Comment date: November 5, 2001, in accordance with Standard Paragraph E at the end of this notice.

11. PSEG Nuclear LLC

[Docket No. EG02-8-000]

Take notice that on October 17, 2001, PSEG Nuclear LLC (PSEG Nuclear or Applicant), having its principal place of business at 80 Park Plaza, T-16, Newark, New Jersey, filed with the Federal Energy Regulatory Commission (Commission), an application for redetermination of exempt wholesale generator status pursuant to Part 365 of the Commission's regulations.

PSEG Nuclear is a limited liability company organized under the laws of the State of Delaware. PSEG Nuclear will be engaged, directly or indirectly through an affiliate as defined in Section 2(a)(11)(B) of the Public Utility Holding Company Act of 1935, exclusively in owning, or both owning and operating eligible generating facilities, and engaging in sales of electric energy at wholesale.

Comment date: November 9, 2001, in accordance with Standard Paragraph E at the end of this notice. The Commission will limit its consideration of comments to those that concern the adequacy or accuracy of the application.

12. Maine Electric Power Company

[Docket No. OA02-2-000]

Take notice that on October 9, 2001, Maine Electric Power Company (MEPCO) tendered for filing pursuant to Section 37.4(c) of the Code of Federal Regulations, 18 CFR 37.4(c), the revised Standards of Conduct to be followed by MEPCO personnel.

MEPCO requests that the Standards of Conduct become effective on October 10, 2001.

MEPCO served copies of the filing upon the persons listed in the Commission's official service list and the Maine Public Utilities Commission.

Comment date: November 19, 2001, in accordance with Standard Paragraph E at the end of this notice.

13. Michigan Electric Transmission Company

[Docket No. OA02-3-000]

Take notice that on October 17, 2001 Michigan Electric Transmission Company (Michigan Transco) tendered for filing standards of conduct procedures pursuant to 18 CFR 37.4(c).

Comment date: November 19, 2001, in accordance with Standard Paragraph E at the end of this notice.

14. Central Maine Power Company

[Docket No. OA02-1-000]

Take notice that on October 9, 2001, Central Maine Power Company (CMP) tendered for filing, pursuant to Section 37.4(c) of the Code of Federal Regulations, 18 CFR 37.4(c), the revised Standards of Conduct to be followed by CMP personnel.

CMP requests that the Standards of Conduct become effective on October 10, 2001.

CMP served copies of the filing upon the Maine Public Utilities Commission.

Comment date: November 19, 2001, in accordance with Standard Paragraph E at the end of this notice.

15. Alliance Companies, Ameren Services Company on behalf of: Union Electric Company, Central Illinois Public Service Company; American Electric Power Service Corporation on behalf of: Appalachian Power Company, Columbus Southern Power Company, Indiana Michigan Power Company, Kentucky Power Company, Kingsport Power Company, Ohio Power Company, Wheeling Power Company; Consumers Energy Company and Michigan Electric Transmission Company; Exelon Corporation on behalf of: Commonwealth Edison Company, Commonwealth Edison Company of Indiana, Inc.; FirstEnergy Corporation on behalf of: American Transmission Systems, Inc., The Cleveland Electric Illuminating Company, Ohio Edison Company, Pennsylvania Power Company, The Toledo Edison Company; Virginia Electric and Power Company; Illinois Power Company; Northern Indiana Public Service Company; The Dayton Power and Light Company

[Docket Nos. RT01-88-010]

Take notice that on October 16, 2001, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), Consumers Energy Company and Michigan Electric Transmission Company, The Dayton Power and Light Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, Northern Indiana Public Service Company, and Virginia Electric and Power Company (collectively, the “Alliance Companies”), tendered for filing (1) proposed alternate tariff sheets reflecting the proposed withdrawal of International Transmission Company (“ITC”) from the Alliance, (2) proposed substitute tariff sheets reflecting corrections to certain tariff sheets filed by the Alliance Companies on August 31, 2001 and September 10, 2001, (3) supplemental testimony and revised exhibits supporting the proposed alternate tariff sheets and the proposed substitute tariff sheets, (4) Attachment O, Market Monitoring Plan, (5) revised Attachment J, Reservation and Scheduling Procedures, and (6) additional contracts under Attachment X to the OATT. The Alliance Companies request that the proposed substitute tariff sheets, proposed alternate tariff sheets, and original tariff sheets become effective on December 15, 2001, Day 1 of operations of the Alliance RTO.

Comment date: November 19, 2001, in accordance with Standard Paragraph E at the end of this notice.

16. Alliance Companies, Ameren Services Company on behalf of: Union Electric Company, Central Illinois Public Service Company; American Electric Power Service Corporation on behalf of: Appalachian Power Company, Columbus Southern Power Company, Indiana Michigan Power Company, Kentucky Power Company, Kingsport Power Company, Ohio Power Company, Wheeling Power Company; Consumers Energy Company and Michigan Electric Transmission Company; Exelon Corporation on behalf of: Commonwealth Edison Company, Commonwealth Edison Company of Indiana, Inc.; FirstEnergy Corporation on behalf of: American Transmission Systems, Inc., The Cleveland Electric Illuminating Company, Ohio Edison Company, Pennsylvania Power Company, The Toledo Edison Company; Virginia Electric and Power Company; Illinois Power Company; Northern Indiana Public Service Company; The Dayton Power and Light Company

[Docket Nos. RT01-88-011]

Take notice that on October 16, 2001, Alliance Companies, et al. tendered for filing with the Federal Energy Regulatory Commission (Commission), additional information concerning he Alliance Companies' request for authorization under Section 203 of the Federal Power Act to transfer control of their jurisdictional facilities to the Alliance Regional Transmission Organization (Alliance RTO).

Comment date: November 19, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26884 Filed 10-24-01; 8:45 am]

BILLING CODE 6717-01-P